DEPARTMENT OF JUSTICE

Notice of Filing of Proposed Settlement Agreement Regarding Environmental Claims in Connection With the Raritan Bay Slag Superfund Site

On July 16, 2019, a Notice of Motion was filed in the Superior Court for the State of California for the County of San Francisco in the proceeding entitled Insurance Commissioner of the State of California vs. Western Employers Insurance Company, et al., Case No. CPF-97-984281. The Motion will seek court approval of the Raritan Bay Slag Superfund Site Settlement Agreement between the Insurance Commissioner of the State of California (“Commissioner”), in his capacity as the liquidator of the Western Employers Insurance Company (“WEIC”), and Old Bridge Township, the United States Department of the Interior (“DOI”), Environmental Protection Agency (“EPA”), and National Oceanic and Atmospheric Agency (“NOAA”) (collectively referred to as “the Federal Claimants”), acting by and through the United States Department of Justice (“DOJ”).

The Settlement Agreement would resolve a proof of claim by the Federal Claimants under Section 107 of the Comprehensive Environmental Response, Compensation, and Liability Act (“CERCLA”), 42 U.S.C. 9607, against WEIC involving the insured Township of Old Bridge, New Jersey at the Raritan Bay Slag Superfund Site. The Federal Claimants filed a proof of claims in the instant proceeding against WEIC arising from policies of insurance that WEIC companies had issued to Old Bridge based on liability for contamination at the Raritan Bay Slag Superfund Site.

Under the Settlement Agreement, WEIC will pay to the United States $2,200,000 million to be allocated among the federal claimants as follows:

a. $1.76 million to EPA. The total amount paid to EPA shall be deposited by EPA in the Raritan Bay Slag Site Special Account to be retained and used to conduct or finance response actions at or in connection with the Site, or to be transferred by EPA to the EPA Hazardous Substance Superfund.

b. $440,000 to DOI and NOAA.

In consideration of this payment, upon approval of the Settlement Agreement, the Federal Claimants covenant not to file a civil action against the Insurance Commissioner, the California Department of Insurance, the California Conservation and Liquidation Office and WEIC with respect to all liabilities and obligations to Old Bridge or the Federal or the Federal Claimants arising under CERCLA under the Policies issued by the WEIC to Old Bridge, whether such liabilities and obligations are known or unknown, reported or unreported, and whether currently existing or arising in the future. The Settlement Agreement is conditioned upon court approval. The Commissioner will appear at a hearing to present the motion seeking approval the Settlement Agreement on August 19, 2019 at 9:30 a.m. in Department 302 of the San Francisco County Superior Court located at 400 McAllister Street, San Francisco, California 94102.

The publication of this notice opens a period for public comment on the Settlement Agreement. Comments should be addressed to the Assistant Attorney General, Environment and Natural Resources Division, and should refer to Insurance Commissioner of the State of California v. Western Employers Insurance Company, et al., D.J. Ref. No. 90-11-3-10954/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department website: https://www.justice.gov/enrd/consent-decrees. Alternatively, a paper copy of the Settlement Agreement will be provided upon written request and payment of reproduction costs. Please mail your request and payment to: Consent Decree Library, U.S. DOJ—ENRD, P.O. Box 7611, Washington, DC 20044-7611.

Please enclose a check or money order for $2.25 (25 cents per page reproduction cost) payable to the United States Treasury.

Jeffrey Sands,
Assistant Section Chief, Environmental Enforcement Section, Environment and Natural Resources Division.

[FR Doc. 2019-15610 Filed 7-22-19; 8:45 am]

BILLING CODE 4410-15-P